DEPARTMENT OF LABOR

Employment and Training Administration

[TA-W-71,239]

Marshall Manufacturing Corporation, Cape Canaveral, FL; Notice of Termination of Investigation

Pursuant to Section 223 of the Trade Act of 1974, as amended, an investigation was initiated on June 17, 2009 in response to a petition filed by the workers of Marshall Manufacturing Corporation, Cape Canaveral, Florida.

The petitioning group of workers is covered by an active certification, (TA-W-70,820A) which expires on December 16, 2011. Consequently, further investigation in this case would serve no purpose, and the investigation has been terminated.

Signed at Washington, DC, this 5th day of March, 2010.
Elliott S. Kushner,
Certifying Officer, Division of Trade Adjustment Assistance.

[FR Doc. 2010-5347 Filed 3-11-10; 8:45 am]

BILLING CODE 4510-FN-P